OFFICE OF MANAGEMENT AND BUDGET

Request for Comments on Digital Services Playbook and TechFAR Handbook

AGENCY: Office of Management and Budget (OMB).

ACTION: Notice.

SUMMARY: OSTP and OMB's Offices of Federal Procurement Policy (OFPP) and E-Government & Information Technology (E-Gov) are seeking public comment on two documents, the Digital Services Playbook and the TechFAR Handbook, which were developed to improve the delivery of digital services by the Federal Government.

DATES: August 21, 2014.

ADDRESSES: Interested parties may provide comment through an open source repository on GitHub by reviewing the documents and response dates posted at the following links: http://playbook.cio.gov; http://playbook.cio.gov/techfar/

FOR FURTHER INFORMATION CONTACT: Ms. Malissa Levesque, E-Gov, 202-395-0376 or mlevesque@omb.eop.gov; or Mr. Mathew Blum, OFPP, 202-395-4953, or mblum@omb.eop.gov.

SUPPLEMENTARY INFORMATION: A core element of the President's 2nd Term Management Agenda is significantly improving the effectiveness and delivery of government programs and services. Increasingly, the delivery of Federal services is through digital channels like Web sites and mobile applications making it critically important to have smarter IT delivery and stronger agency accountability for success.

One way to advance smarter digital service delivery is by putting the right processes and practices in place to drive outcomes and accountability and allow people and companies to do their best work. The Digital Services Playbook and the TechFAR handbook document these best practices and processes:

• The Digital Services Playbook identifies a series of “plays” drawn from successful best practices from the private sector and government that, if followed together, will help government build effective digital services. The plays outline an approach to delivering services that increases our ability to be flexible, iterative and, most importantly, to focus on the needs of the people that use our services.

• The TechFAR Handbook highlights the flexibilities in the Federal Acquisition Regulation (FAR) that can help agencies implement “plays” from the Playbook that would be accomplished with acquisition support—with a particular focus on how to use contractors to support an iterative, customer-driven software development process, as is routinely done in the private sector.

OFPP, E-Gov, and OSTP intend for these documents to be used together by agencies as resources for the successful delivery of digital services. Comments are especially welcome on additional best practices or lessons learned that may be appropriate for inclusion in this guidance.

Lisa A. Schlosser,
Deputy Administrator, Office of E-Government & Information Technology.
Lesley A. Field,
Administrator (Acting), Office of Federal Procurement Policy.

[FR Doc. 2014-19805 Filed 8-20-14; 8:45 am]

BILLING CODE P